DEPARTMENT OF ENERGY

Federal Energy Regulatory Commission

Combined Notice of Filings #1

February 6, 2007.

Take notice that the Commission received the following electric corporate filings:

Docket Numbers: EC07-57-000.

Applicants: Wisconsin Electric Power Company; FPL Energy Point Beach, LLC.

Description: Wisconsin Electric Power Company and FPL Energy Point Beach, LLC submit a joint application seeking authorization to acquire an existing generating facilities.

Filed Date: 2/1/2007.

Accession Number: 20070206-0008.

Comment Date: 5 p.m. Eastern Time on Thursday, February 22, 2007.

Take notice that the Commission received the following electric rate filings:

Docket Numbers: ER99-4102-004.

Applicants: Milford Power Company, LLC.

Description: Milford Power Company LLC submits its triennial market power update in support of continued authorization to sell under market-based rates.

Filed Date: 1/31/2007.

Accession Number: 20070202-0237.

Comment Date: 5 p.m. Eastern Time on Wednesday, February 21, 2007.

Docket Numbers: ER02-2536-001.

Applicants: Bank of America.

Description: Bank of America, NA submits a compliance filing to make technical corrections to its Market-Based Rate Schedule 1, Third Revised Sheet 1 et al.

Filed Date: 2/1/2007.

Accession Number: 20070206-0106.

Comment Date: 5 p.m. Eastern Time on Thursday, February 22, 2007.

Docket Numbers: ER04-222-005.

Applicants: CPV Milford, LLC.

Description: CPV Milford, LLC submits its triennial market power update in support of continued authorization to sell under market-based rates pursuant to Order 652.

Filed Date: 1/31/2007.

Accession Number: 20070202-0236.

Comment Date: 5 p.m. Eastern Time on Wednesday, February 21, 2007.

Docket Numbers: ER04-691-083; ER04-106-020; EL04-104-070.

Applicants: Midwest Independent Transmission System Operator, Inc.

Description: Midwest Independent Transmission System Operator, Inc. submits the following proposal regarding the treatment of Grandfathered Agreements in compliance with the Commission's 9/16/04 and 4/15/05 orders.

Filed Date: 2/1/2007.

Accession Number: 20070205-0002.

Comment Date: 5 p.m. Eastern Time on Thursday, February 22, 2007.

Docket Numbers: ER06-275-001.

Applicants: Northeast Utilities Service Company.

Description: Northeast Utilities Service Co., on behalf of The Connecticut Light and Power Company et al submits a report updating the Commission on the status of NU's four major transmission projects in Southwest Connecticut.

Filed Date: 1/30/2007.

Accession Number: 20070206-0104.

Comment Date: 5 p.m. Eastern Time on Tuesday, February 20, 2007.

Docket Numbers: ER06-1420-004.

Applicants: Midwest Independent Transmission System Operator, Inc.

Description: Midwest Independent Transmission System Operation, Inc. on behalf of the Midwest CRSG Parties submits the Midwest Contingency Reserve Sharing Group Agreement.

Filed Date: 1/31/2007.

Accession Number: 20070202-0229.

Comment Date: 5 p.m. Eastern Time on Wednesday, February 14, 2007.

Docket Numbers: ER06-1441-001.

Applicants: Midwest Independent Transmission System Operator, Inc.

Description: Midwest Independent Transmission System Operator Inc. submits its Large Generator Interconnection Agreement among Consumers Energy Company et al. under ER06-1441.

Filed Date: 2/1/2007.

Accession Number: 20070206-0101.

Comment Date: 5 p.m. Eastern Time on Thursday, February 22, 2007.

Docket Numbers: ER07-212-003; ER01-1558-004.

Applicants: Wayzata California Power Holdings; NEO California Power, LLC.

Description: Wayzata California Power Holdings, LLC, et al. submit FERC Electric rate Schedule 1, with a proposed effective date of Jan. 3, 2007.

Filed Date: 2/5/2007.

Accession Number: 20070205-5005.

Comment Date: 5 p.m. Eastern Time on Monday, February 26, 2007.

Docket Numbers: ER07-232-001.

Applicants: Aragonne Wind LLC.

Description: Aragonne Wind LLC submits a notification of non-material change in status.

Filed Date: 1/29/2007.

Accession Number: 20070129-5049.

Comment Date: 5 p.m. Eastern Time on Tuesday, February 20, 2007.

Docket Numbers: ER07-240-002.

Applicants: Twin Buttes Wind LLC.

Description: Twin Buttes Wind LLC submits typographical revisions to Substitute Original Sheet 1 to FERC Electric Tariff, Original Volume 1, effective 3/1/07.

Filed Date: 2/1/2007.

Accession Number: 20070202-0231.

Comment Date: 5 p.m. Eastern Time on Thursday, February 22, 2007.

Docket Numbers: ER07-242-002.

Applicants: MinnDakota Wind LLC.

Description: MinnDakota Wind LLC submits typographical revisions to Substituted Original Sheet 1 to FERC Electric Tariff, Original Volume 1, effective 3/1/07.

Filed Date: 2/1/2007.

Accession Number: 20070202-0230.

Comment Date: 5 p.m. Eastern Time on Thursday, February 22, 2007.

Docket Numbers: ER07-287-002; ER07-287-001.

Applicants: Klondike Wind Power III LLC.

Description: Klondike Wind Power III LLC submits typographical revisions to Substitute Original Sheet 1 to FERC Electric Tariff, Original Volume 1, and on 2/1/07 submit revisions to its Second Substitute Original Sheet.

Filed Date: 1/23/07 and 2/1/2007.

Accession Number: 20070205-0283 and 20070202-0232.

Comment Date: 5 p.m. Eastern Time on Thursday, February 22, 2007.

Docket Numbers: ER07-415-001.

Applicants: DTE Pontiac North, LLC.

Description: DTE Pontiac North, LLC submits a notice of a Non-Material Change in the Facts Surrounding its Pending Application for Market-Based Authority.

Filed Date: 2/5/2007.

Accession Number: 20070205-5053.

Comment Date: 5 p.m. Eastern Time on Wednesday, February 14, 2007.

Docket Numbers: ER07-416-001.

Applicants: Geneva Roth Holding, LLC.

Description: Geneva Roth Holding, LLC submits an addendum to its FERC Electric Tariff, Original Volume 1.

Filed Date: 1/30/2007.

Accession Number: 20070206-0103.

Comment Date: 5 p.m. Eastern Time on Tuesday, February 20, 2007.

Docket Numbers: ER07-418-001.

Applicants: Western Systems Power Pool.

Description: Western Systems Power Pool submits to amend its 1/8/07 Filing to include Power and Water Resources Pooling Authority as member of the WSPP etc., effective 2/1/07.

Filed Date: 01/26/2007.

Accession Number: 20070130-0257.

Comment Date: 5 p.m. Eastern Time on Friday, February 16, 2007.

Docket Numbers: ER07-493-000.

Applicants: New England Power Pool Participants Committee.

Description: New England Power Pool (NEPOOL) Participants Committee submits the termination of membership for Worcester Energy et al.

Filed Date: 2/1/2007.

Accession Number: 20070202-0228.

Comment Date: 5 p.m. Eastern Time on Thursday, February 22, 2007.

Docket Numbers: ER07-494-000.

Applicants: Southern Company Services, Inc.

Description: Southern Company Services, Inc agent for Alabama Power Company, Georgia Power Company et al submits Original Sheet 142A.053 et al pursuant to FERC's Order 2006-B.

Filed Date: 2/1/2007.

Accession Number: 20070202-0265.

Comment Date: 5 p.m. Eastern Time on Thursday, February 22, 2007.

Docket Numbers: ER07-495-000.

Applicants: E. ON U.S., LLC.

Description: E. ON U.S., LLC et al. submits a notice of termination of KU Rate Schedule 202 w/PSI Energy Inc pursuant to Sections 35.15 and 131.53 of FERC's Regulations under ER07-495.

Filed Date: 2/1/2007.

Accession Number: 20070202-0264.

Comment Date: 5 p.m. Eastern Time on Thursday, February 22, 2007.

Docket Numbers: ER07-496-000.

Applicants: Alcoa Power Marketing, Inc.

Description: Alcoa Power Marketing LLC submits a notice of succession to notify FERC that as a result of a conversation from a corporation to limited company and resulting name change APM LLC adopts Alcoa Power Marketing Inc etc.

Filed Date: 2/1/2007.

Accession Number: 20070202-0263.

Comment Date: 5 p.m. Eastern Time on Thursday, February 22, 2007.

Docket Numbers: ER07-497-000.

Applicants: E. ON U.S. LLC.

Description: E. ON U.S, LLC on behalf of Louisville Gas and Electric Co et al. submits Notice of Termination of LG&E Rate Schedule 24 with Cincinnati Gas & Electric Co.

Filed Date: 2/1/2007.

Accession Number: 20070206-0107.

Comment Date: 5 p.m. Eastern Time on Thursday, February 22, 2007.

Docket Numbers: ER07-498-000.

Applicants: E.ON U.S. LLC.

Description: E.ON US, LLC on behalf of Louisville Gas and Electric Co submits notice of termination of LG&E Rate Schedule 21, as amended w/PSI Energy, Inc etc.

Filed Date: 2/1/2007.

Accession Number: 20070206-0108.

Comment Date: 5 p.m. Eastern Time on Thursday, February 22, 2007.

Docket Numbers: ER07-499-000.

Applicants: American Electric Power System Corporation; Ohio Power Company; Columbus Southern Power Company.

Description: Ohio Power Co and Columbus Southern Power Co submits an Interconnection Agreement with The Dayton Power and Light Co.

Filed Date: 2/1/2007.

Accession Number: 20070206-0105.

Comment Date: 5 p.m. Eastern Time on Thursday, February 22, 2007.

Docket Numbers: ER07-500-000.

Applicants: Xcel Energy Operating Inc.

Description: Public Service Company of Colorado submits copies of proposed revisions to the Fourth Substitute First Revised Sheet 72 et al of the Xcel Energy Operating Companies Joint Open Access Transmission Tariff.

Filed Date: 2/2/2007.

Accession Number: 20070205-0001.

Comment Date: 5 p.m. Eastern Time on Friday, February 23, 2007.

Docket Numbers: ER07-501-000.

Applicants: Birchwood Power Partners, L.P.

Description: Birchwood Power Partners, LP submits an application for market-based rate authority and request for expedited consideration and for waivers and pre-approvals.

Filed Date: 2/2/2007.

Accession Number: 20070206-0125.

Comment Date: 5 p.m. Eastern Time on Friday, February 23, 2007.

Docket Numbers: ER07-502-000.

Applicants: PacifiCorp.

Description: PacifiCorp submits a Transmission Interconnection Agreement dated 6/20/06 and a Facilities Agreement dated 2/13/06 with Murray City Corp.

Filed Date: 2/2/2007.

Accession Number: 20070206-0126.

Comment Date: 5 p.m. Eastern Time on Friday, February 23, 2007.

Docket Numbers: ER07-504-000.

Applicants: California Independent System Operator Corporation.

Description: California Independent System Operator Corp submits a Transmission Access Charge Informational Filing, effective 1/1/07.

Filed Date: 2/2/2007.

Accession Number: 20070206-0130.

Comment Date: 5 p.m. Eastern Time on Friday, February 23, 2007.

Docket Numbers: ER07-507-000.

Applicants: New York Independent System Operator, Inc.

Description: New York Independent System Operator, Inc submits its proposed revisions to Attachment K of its Market Administration and Control Area Service Tariff and Attachment W of its OATT.

Filed Date: 2/2/2007.

Accession Number: 20070206-0122.

Comment Date: 5 p.m. Eastern Time on Friday, February 23, 2007.

Docket Numbers: ER07-508-000.

Applicants: PJM Interconnection, L.L.C.

Description: PJM Interconnection, LLC submits revisions to its Amended and Restated Operating Agreement and Open-Access Transmission Tariff.

Filed Date: 2/2/2007.

Accession Number: 20070206-0121.

Comment Date: 5 p.m. Eastern Time on Friday, February 23, 2007.

Docket Numbers: ER07-509-000.

Applicants: California Power Holdings, LLC.

Description: California Power Holdings, LLC submits a Notice of Succession to reflect Name Change on Market Based Rate Tariff.

Filed Date: 2/5/2007.

Accession Number: 20070205-5006.

Comment Date: 5 p.m. Eastern Time on Monday, February 26, 2007.

Docket Numbers: ER07-510-000.

Applicants: Avista Corporation.

Description: Avista Corporation submits proposed revision to Exhibit 1A to the Network Integration Transmission Service Agreement with Bonneville Power Administration etc. pursuant to Section 35.12 of FERC's Regulations.

Filed Date: 2/5/2007.

Accession Number: 20070206-0120.

Comment Date: 5 p.m. Eastern Time on Monday, February 26, 2007.

Docket Numbers: ER07-511-000.

Applicants: Avista Corporation.

Description: Avista Corporation submits proposed revisions to Exhibit A to the Interconnection and Operating Agreement with Clearwater Power Co.

Filed Date: 2/5/2007.

Accession Number: 20070206-0123.

Comment Date: 5 p.m. Eastern Time on Monday, February 26, 2007.

Docket Numbers: ER07-512-000.

Applicants: Lockhart Power Company.

Description: Lockhart Power Co submits a request to revise its FERC Electric, Original Volume 1.

Filed Date: 2/2/2007.

Accession Number: 20070206-0124.

Comment Date: 5 p.m. Eastern Time on Friday, February 23, 2007.

Take notice that the Commission received the following electric securities filings:

Docket Numbers: ES07-19-000.

Applicants: Old Dominion Electric Cooperative, Inc.

Description: Old Dominion Electric Cooperative, Inc. submits an application for Extension of Authority to Issue Short-Term Debt of Old Dominion Electric Cooperative.

Filed Date: 2/2/2007.

Accession Number: 20070202-5004.

Comment Date: 5 p.m. Eastern Time on Friday, February 23, 2007.

Take notice that the Commission received the following foreign utility company status filings:

Docket Numbers: FC07-7-000.

Applicants: AES Parana Operations, S.R.L.

Description: AES Parana Operations, SRL submits a Notification of Self-Certification of Foreign Utility Company Status.

Filed Date: 2/2/2007.

Accession Number: 20070206-0159.

Comment Date: 5 p.m. Eastern Time on Friday, February 23, 2007.

Take notice that the Commission received the following public utility holding company filings:

Docket Numbers: PH07-8-000.

Applicants: Spectra Energy Corp.

Description: Spectra Energy Corp submits its FERC-65A: Notification of Exemption from the requirements of the Public Utility Holding Company Act of 2005.

Filed Date: 2/1/2007.

Accession Number: 20070205-0003.

Comment Date: 5 p.m. Eastern Time on Thursday, February 22, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E7-2378 Filed 2-9-07; 8:45 am]

BILLING CODE 6717-01-P